DEPARTMENT OF COMMERCE

National Oceanic and Atmospheric Administration

RIN 0648-XA814

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (MAFMC) Executive Committee will hold a public meeting.

DATES: The meeting will be held on Thursday, December 1, 2011 from 10 a.m. to 4 p.m.

ADDRESSES: The meeting will be held at BWI Airport Marriott, 1743 West Nursery Road, Linthicum Heights, MD; telephone: (410) 859-8300.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of this Committee meeting is to discuss progress to date and future direction with respect to the Council's work on the implementation of Ecosystem Based Fishery Management. A specific topic to be discussed will be the Council plan for moving forward with the development of ecosystem based fishery management approach in 2012. In addition, the Committee will review and discuss a comprehensive list of Council priorities for 2012. The final topic to be discussed will be potential revisions to the Council's Statement of Organization Practices and Procedures (SOPPSs).

Special Accommodations

The meeting is physically accessible to people with disabilities. Requests for sign language interpretation or other auxiliary aids should be directed to M. Jan Saunders at the Mid-Atlantic Council Office, (302) 526-5251, at least 5 days prior to the meeting date.

Dated: November 4, 2011.
Tracey L. Thompson,
Acting Director, Office of Sustainable Fisheries, National Marine Fisheries Service.

[FR Doc. 2011-29027 Filed 11-8-11; 8:45 am]

BILLING CODE 3510-22-P